ENVIRONMENTAL PROTECTION AGENCY

[FRL-9296-2]

Science Advisory Board Staff Office; Notification of Two Public Teleconferences of the Clean Air Scientific Advisory Committee (CASAC) Air Monitoring and Methods Subcommittee

AGENCY: Environmental Protection Agency (EPA).

ACTION: Notice.

SUMMARY: The Environmental Protection Agency (EPA or Agency) Science Advisory Board (SAB) Staff Office announces two public teleconference calls of the Clean Air Scientific Advisory Committee (CASAC) Air Monitoring and Methods Subcommittee (AMMS) to provide advice on EPA's draft plans for Photochemical Assessment Monitoring Stations (PAMS) Network Re-engineering.

DATES: Two public teleconference calls will be held on Monday, May 16, 2011 from 12:30 p.m. to 4:30 p.m. and on Tuesday, May 17, 2011 from 12:30 p.m. to 4:30 p.m. (Eastern Time).

ADDRESSES: The public teleconferences will be conducted by telephone only.

FOR FURTHER INFORMATION CONTACT: Any member of the public wishing further information regarding this Notice and public teleconference may contact Mr. Edward Hanlon, Designated Federal Officer (DFO), SAB Staff Office, by telephone/voice mail at (202) 564-2134; by fax at (202) 565-2098 or via e-mail at hanlon.edward@epa.gov. General information concerning the EPA CASAC can be found at the EPA CASAC Web site at http://www.epa.gov/casac. Any inquiry regarding EPA's PAMS Network Re-engineering Project should be directed to Mr. Kevin Cavender, EPA Office of Air Quality Planning and Standards (OAQPS), at cavender.kevin@epa.gov or 919-541-2364.

SUPPLEMENTARY INFORMATION: Background: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC AMMS will hold two public teleconference calls to provide advice on EPA's draft plans for PAMS Network Re-engineering. EPA's Office of Air and Radiation (OAR) designed the PAMS network in the 1990s to provide comprehensive monitoring data in areas not in attainment for ozone. The PAMs network monitors for ozone and its precursors, such as oxides of nitrogen and volatile organic compounds and tracks progress for ozone control strategies. Since the promulgation of the PAMS network, there have been changes to the ozone National Ambient Air Quality Standards (NAAQS) including a shift from a 1-hour averaging time to an 8-hour averaging time, as well as changes in the ozone standard. EPA is planning an in-depth review of the PAMS requirements in the context of the revised NAAQS, improvements in monitoring technology, and changes in emissions of ozone precursors that have all occurred over the past 10-15 years. OAR requested CASAC advice on potential revisions to the scientific and technical aspects of EPA's PAMS program, including changes to required measurements and associated network design requirements, technology, sampling frequency, and overall program objectives in the context of the most recently revised ozone NAAQS.

Availability of Meeting Materials: The agenda and materials in support of these teleconference calls will be placed on the EPA CASAC Web site at http://www.epa.gov/casac in advance of the teleconference calls.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the CASAC will have the most impact if it provides specific scientific or technical information or analysis for CASAC to consider or if it relates to the clarity or accuracy of the technical information. Members of the public wishing to provide comment should contact the Designated Federal Officer for the relevant advisory committee directly.

Oral Statements: In general, individuals or groups requesting an oral presentation at this public teleconference will be limited to three minutes per speaker. Interested parties should contact Mr. Edward Hanlon, DFO, in writing (preferably via e-mail), at the contact information noted above, by May 9, 2011 to be placed on the list of public speakers for the teleconference. Written Statements: Written statements should be received in the SAB Staff Office by May 9, 2011 so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Edward Hanlon at the phone number or e-mail address noted above, preferably at least ten days prior to the meeting, to give EPA as much time as possible to process your request.

Dated: March 28, 2011.
Vanessa T. Vu,
Director, EPA Science Advisory Board Staff Office.

[FR Doc. 2011-9198 Filed 4-14-11; 8:45 am]

BILLING CODE 6560-50-P